DEPARTMENT OF ENERGY

Federal Energy Regulatory Commission

Combined Notice of Filings #1

Take notice that the Commission received the following electric corporate filings:

Docket Numbers: EC16-10-000.

Applicants: Berkshire Hathaway Inc.

Description: Application for Authorization of Berkshire Hathaway Inc. under Section 203 of the Federal Power Act and Request for Expedited Treatment.

Filed Date: 10/8/15.

Accession Number: 20151008-5240.

Comments Due: 5 p.m. ET 11/9/15.

Docket Numbers: EC16-12-000.

Applicants: Blue Sky West, LLC, Evergreen Wind Power II, LLC.

Description: Application for Authorization Under Section 203 of the Federal Power Act and Request for Waivers, Expedited Action and Shortened Comment Period of Blue Sky West, LLC, et al.

Filed Date: 10/13/15.

Accession Number: 20151013-5766.

Comments Due: 5 p.m. ET 11/3/15.

Take notice that the Commission received the following electric rate filings:

Docket Numbers: ER15-2615-000.

Applicants: Goodwell Wind Project, LLC.

Description: Supplement to September 3, 2015 Goodwell Wind Project, LLC tariff filing.

Filed Date: 10/9/15.

Accession Number: 20151009-5330.

Comments Due: 5 p.m. ET 10/23/15.

Docket Numbers: ER15-2728-001.

Applicants: Maricopa West Solar PV, LLC.

Description: Tariff Amendment: 2 Baseline—Amended Effective Date to be effective 12/31/9998.

Filed Date: 10/13/15.

Accession Number: 20151013-5736.

Comments Due: 5 p.m. ET 11/3/15.

Docket Numbers: ER16-69-000.

Applicants: Southern Electric Generating Company.

Description: Section 205(d) Rate Filing: SEGCO 2015 PBOP Filing to be effective 1/1/2015.

Filed Date: 10/13/15.

Accession Number: 20151013-5698.

Comments Due: 5 p.m. ET 11/3/15.

Docket Numbers: ER16-70-000.

Applicants: Northern States Power Company, a Wisconsin corporation, Northern States Power Company, a Minnesota corporation.

Description: Section 205(d) Rate Filing: 20151013_MontiEPUIAUpdate to be effective 1/1/2015.

Filed Date: 10/13/15.

Accession Number: 20151013-5710.

Comments Due: 5 p.m. ET 11/3/15.

Docket Numbers: ER16-71-000.

Applicants: Nevada Power Company.

Description: Tariff Cancellation: Service Agreement No. 09-01804 (Termination) to be effective 10/14/2015.

Filed Date: 10/13/15.

Accession Number: 20151013-5737.

Comments Due: 5 p.m. ET 11/3/15.

Docket Numbers: ER16-72-000.

Applicants: San Gorgonio Westwinds II—Windustries, LLC.

Description: Baseline eTariff Filing: Baseline New to be effective 11/24/2015.

Filed Date: 10/14/15.

Accession Number: 20151014-5061.

Comments Due: 5 p.m. ET 11/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2015.
Nathaniel J. Davis, Sr.,
Deputy Secretary.

[FR Doc. 2015-26706 Filed 10-20-15; 8:45 am]

BILLING CODE 6717-01-P